DEPARTMENT OF COMMERCE

Foreign-Trade Zones Board

[Docket 29-2008]

Foreign-Trade Zone 234 - Gregg County, Texas, Application for Expansion

An application has been submitted to the Foreign-Trade Zones Board (the Board) by Gregg County, Texas, grantee of Foreign-Trade Zone 234, requesting authority to expand its zone to include a site in Kilgore, Texas, adjacent to the Shreveport-Bossier Customs and Border Protection port of entry. The application was submitted pursuant to the provisions of the Foreign-Trade Zones Act, as amended (19 U.S.C. 81a-81u), and the regulations of the Board (15 CFR Part 400). It was formally filed on May 5, 2008.

FTZ 234 was approved on November 4, 1998 (Board Order 1003, 63 FR 63671, 11/16/98). On December 15, 2006, a minor boundary modification was approved to include an additional site in Longview, Gregg County, Texas. The zone project currently consists of two sites: Site 1: (239 acres) located at the Gregg County Airport; and, Site 2: (60 acres) located at 1320 East Harrison Road, Longview.

The applicant is now requesting authority to expand the general- purpose zone to include the Synergy Park at Elder Lake (217 acres) located at 1000 Synergy Boulevard, Kilgore, Texas. The site is primarily owned by Kilgore Economic Development Corporation and will be designated as Site 3.

No specific manufacturing requests are being made at this time. Such requests would be made to the Board on a case-by-case basis.

In accordance with the Board's regulations, Claudia Hausler of the FTZ Staff is designated examiner to investigate the application and report to the Board.

Public comment is invited from interested parties. Submissions (original and 3 copies) shall be addressed to the Board's Executive Secretary at the address below. The closing period for their receipt is July 14, 2008. Rebuttal comments in response to material submitted during the foregoing period may be submitted during the subsequent 15-day period to July 28, 2008.

A copy of the application and accompanying exhibits will be available for public inspection at each of the following locations:

Gregg County Courthouse, 101 East Methvin Street, Suite 300, Longview, Texas 75601

Office of the Executive Secretary), Foreign-Trade Zones Board, U.S. Department of Commerce, Room 2111, 1401 Constitution Avenue, NW, Washington, DC 20230

For further information contact Claudia Hausler at Claudia_Hausler@ita.doc.gov or (202) 482-1379.

Dated: May 6, 2008.
Andrew McGilvray,
Executive Secretary.

[FR Doc. E8-10657 Filed 5-12-08; 8:45 am]

BILLING CODE 3510-DS-S